ELECTION ASSISTANCE COMMISSION

Agency Information Collection Activities

Election Supporting Technology Evaluation Program Anomaly Reporting Forms

AGENCY: Election Assistance Commission.

ACTION: Notice; request for comment.

SUMMARY: As part of its continuing effort to reduce paperwork burdens, and as required by the Paperwork Reduction Act of 1995 (PRA), the U.S. Election Assistance Commission (EAC) gives notice that it is requesting from the Office of Management and Budget (OMB) approval for the information collection of one Election Supporting Technology Evaluation form. The information collected is to be used to improve the quality of election-supporting technology used in federal elections, and to collect necessary key information on election-supporting technology anomalies. Participation in this program is voluntary.

DATES: Comments must be received by 5 p.m. Eastern on Monday, May 13, 2024.

ADDRESSES: Comments on the proposed form should be submitted electronically via https://www.regulations.gov (docket ID: EAC-2024-0001).

Written comments on the proposed information collection can also be sent to the U.S. Election Assistance Commission, 633 3rd Street NW, Suite 200, Washington, DC 20001, Attn: Election Supporting Technology Evaluation Program.

FOR FURTHER INFORMATION CONTACT: Jenniffer Day, Election Technology Specialist, Election Supporting Technology Evaluation Program, Washington, DC, (202) 578-6641. Email: ESTEP@eac.gov.

All requests and submissions should be identified by the title of the information collection.

SUPPLEMENTARY INFORMATION:

Title and OMB Number: Election Supporting Technology Evaluation Anomaly Reporting Forms

OMB Number Pending.

Purpose

In compliance with Section 3507(a)(1)(D) of the Paperwork Reduction Act (PRA) of 1995, EAC is submitting to the Office of Management and Budget (OMB) a request for review and approval of the information collection described. The purpose of this notice is to allow 60 days for public comment from all interested individuals and organizations.

The EAC Election Supporting Technology Evaluation Program evaluates the security and accessibility of election-supporting technologies, including electronic poll books, voter registration systems, electronic ballot delivery systems, and election night reporting databases. The program is to publish two forms. These forms are to be used to collect initial anomaly information and anomaly root cause analysis as reported by election officials and election-supporting technology manufacturers. The information collected will be used to improve the quality of election-supporting technology used in federal elections.

Public Comments

We are soliciting public comments to permit the EAC to:

• Evaluate whether the proposed information collection is necessary and sufficient for the proper functions of the Election Supporting Technology Evaluation Program.

• Evaluate the accuracy of our estimate of burden for this proposed collection, including the validity of the methodology and assumptions used.

• Enhance the quality, utility, and clarity of the information to be collected.

• Minimize the reporting burden on those who are to respond, including the use of information technology.

Please note that comments submitted in response to this Notice are public record. Before including any detailed personal information, you should be aware that your comments as submitted, including your personal information, will be available for public review. Respondents: Election Supporting Technology Manufacturers, State and Local Election Officials.

Annual Reporting Burden

OMB approval is requested for 3 years.

Annual Burden Estimates
Instrument | Estimated number of respondents | Total number of responses per year | Average burden hours per response | Annual burden hours
ESTEP Anomaly Reporting Form | 5 | 5 | 2 | 50
ESTEP Root Cause Anomaly Form | 5 | 5 | 16 | 400
Total |  | 10 |  | 450

The estimated cost of the annualized cost of this burden is: $37,800.

Camden Kelliher,
Acting General Counsel, U.S. Election Assistance Commission.

[FR Doc. 2024-05302 Filed 3-12-24; 8:45 am]

BILLING CODE 4810-71-P